NATIONAL SCIENCE FOUNDATION

Advisory Committee for Cyberinfrastructure; Notice of Meeting

In accordance with the Federal Advisory Committee Act (Pub. L. 92-463, as amended), the National Science Foundation (NSF) announces the following meeting:

Name and Committee Code: Advisory Committee for Cyberinfrastructure (Fall 2023) (#25150) (Hybrid Meeting).

Date and Time: September 21, 2023 9:00 a.m.-4:00 p.m. (Eastern), September 22, 2023 9:00 a.m.-4:00 p.m. (Eastern).

Place: NSF, 2415 Eisenhower Avenue, Alexandria, VA 22314 (Hybrid).

The final meeting agenda and instructions to register and attend the meeting will be posted on the ACCI website: https://www.nsf.gov/cise/oac/advisory.jsp.

Please contact Rediet Woldeselassie at rwoldese@nsf.gov to obtain a visitor badge. All visitors to the NSF will be required to show photo ID to obtain a badge.

Type of Meeting: Open.

Contact Persons: Walton, Amy, National Science Foundation, 2415 Eisenhower Avenue, Alexandria, VA 22314; Telephone: (703) 292-4538.

Minutes: May be obtained from Christine Christy, National Science Foundation, 2415 Eisenhower Avenue, Alexandria, VA 22314; Telephone: (783) 878-0375 and will be posted within 90-days after the meeting end date to the ACCI website: https://www.nsf.gov/cise/oac/advisory.jsp.

Purpose of Meeting: To provide advice, recommendations and counsel on major goals and policies pertaining to engineering programs and activities.

Agenda: Updates on OAC wide NSF activities.

Dated: August 18, 2023.
Crystal Robinson,
Committee Management Officer.

[FR Doc. 2023-18186 Filed 8-23-23; 8:45 am]

BILLING CODE 7555-01-P